INTERNATIONAL TRADE COMMISSION

Sunshine Act Meeting

AGENCY HOLDING THE MEETING: United States International Trade Commission

TIME AND DATE: May 9, 2000 at 11:00 a.m.

PLACE: Room 101, 500 E Street S.W., Washington, DC 20436, Telephone: (202) 205-2000.

STATUS: Open to the public.

MATTERS TO BE CONSIDERED: 1. Agenda for future meeting: none

2. Minutes

3. Ratification List

4. Inv. Nos. 701-TA-318 and 731-TA-538 and 561 (Review)(Sulfanilic Acid from China and India)—briefing and vote. (The Commission will transmit its determination to the Secretary of Commerce on May 18, 2000.)

5. Inv. Nos. 701-TA-286 and 731-TA-365 (Review)(Industrial Phosphoric Acid from Belgium and Israel)—briefing and vote. (The Commission will transmit its determination to the Secretary of Commerce on May 22, 2000.)

6. Outstanding action jackets:

(1.) Document No. GC-00-020: Administrative matters.

In accordance with Commission policy, subject matter listed above, not disposed of at the scheduled meeting, may be carried over to the agenda of the following meeting.

By order of the Commission.
Issued: May 1, 2000.
Donna R. Koehnke,
Secretary.

[FR Doc. 00-11332 Filed 5-2-00; 3:48 pm]

BILLING CODE 7020-02-P